ENVIRONMENTAL PROTECTION AGENCY

40 CFR Part 63

[EPA-HQ-OAR-2018-0074; FRL-10012-57-OAR]

RIN 2060-AT86

National Emission Standards for Hazardous Air Pollutants: Organic Liquids Distribution (Non-Gasoline) Residual Risk and Technology Review; Corrections

AGENCY: Environmental Protection Agency (EPA).

ACTION: Correcting amendments.

SUMMARY: On July 7, 2020, the U.S. Environmental Protection Agency (EPA) revised the National Emission Standards for Hazardous Air Pollutants: Organic Liquids Distribution (Non-Gasoline) Residual Risk and Technology Review. A set of amendatory instructions and one reference to a standard approved for incorporation by reference were removed during the review and publication process but the related standard reference was not removed. In addition, subsequent amendatory instructions were not properly revised to reflect the edits. This document corrects the final regulations.

DATES: This final rule is effective on July 22, 2020. The incorporation by reference (IBR) of certain publications listed in the rule was approved by the Director of the Federal Register as of July 7, 2020.

FOR FURTHER INFORMATION CONTACT: Mr. Neil Feinberg, Sector Policies and Programs Division (E143-01), Office of Air Quality Planning and Standards, U.S. Environmental Protection Agency, Research Triangle Park, North Carolina 27711; telephone number: (919) 541-2214; fax number: (919) 541-0516; and email address: feinberg.stephen@epa.gov

SUPPLEMENTARY INFORMATION: In the final rule published on July 7, 2020 (85 FR 40740), the EPA removed the instructions to redesignate a series of paragraphs in 40 CFR 63.14 (the centralized IBR section) to add ASTM D6378-18a, Standard Test Method for Determination of Vapor Pressure (VPX) of Petroleum Products, Hydrocarbons, and Hydrocarbon-Oxygenate Mixtures (Triple Expansion Method), approved December 1, 2018, but did not remove the standard from use in 40 CFR 63.2406. As a result, not only was the standard improperly added to 40 CFR 63.2046, but revisions to two existing paragraphs in 40 CFR 63.14 (to ASTM D6420-99 (Reapproved 2004), Standard Test Method for Determination of Gaseous Organic Compounds by Direct Interface Gas Chromatography-Mass Spectrometry (Approved October 1, 2004) and ASTM D6420-18, Test Method for Determination of Gaseous Organic Compounds by Direct Interface Gas Chromatography/Mass Spectrometry (Approved November 1, 2018)) could not be carried out. This document corrects the centralized IBR section at 40 CFR 63.14 by restating the instruction that could not be applied to the CFR and removes ASTM D6378-18a from 40 CFR 63.2046.

List of Subjects in 40 CFR Part 63

Environmental protection, Administrative practice and procedures, Air pollution control, Hazardous substances, Incorporation by reference, Intergovernmental relations, Reporting and recordkeeping requirements.

Karl Moor,
Deputy Assistant Administrator.

For the reasons set forth in the preamble, the EPA amends 40 CFR part 63 as follows:

PART 63—NATIONAL EMISSION STANDARDS FOR HAZARDOUS AIR POLLUTANTS FOR SOURCE CATEGORIES

1. The authority citation for part 63 continues to read as follows:

Authority: 42 U.S.C. 7401, et seq.

Subpart A—General Provisions

2. Section 63.14 is amended by:

a. Redesignating paragraphs (h)(90) through (h)(102) as paragraphs (h)(91) through (h)(103).

b. Adding and reserving new paragraph (h)(90); and

c. Revising newly redesignated paragraphs (h)(92) and (94).

The addition and revisions read as follows:

§ 63.14 Incorporations by reference.

* * * * *

(h) * * *

(90) [Reserved]

* * * * *

(92) ASTM D6420-99 (Reapproved 2004), Standard Test Method for Determination of Gaseous Organic Compounds by Direct Interface Gas Chromatography-Mass Spectrometry (Approved October 1, 2004), IBR approved for §§ 63.457(b), 63.772(a), 63.772(e), 63.1282(a) and (d), and table 8 to subpart HHHHHHH.

* * * * *

(94) ASTM D6420-18, Test Method for Determination of Gaseous Organic Compounds by Direct Interface Gas Chromatography/Mass Spectrometry (Approved November 1, 2018), IBR approved for §§ 63.987(b), 63.997(e), 63.2354(b), and table 5 to subpart EEEE.

* * * * *

§ 63.2406 [Amended]

3. In § 63.2406, amend the definition “Annual average true vapor pressure,” by adding “or” to the end of paragraph (1) and removing and reserving paragraph (2).

[FR Doc. 2020-15746 Filed 7-21-20; 8:45 am]

BILLING CODE 6560-50-P